ENVIRONMENTAL PROTECTION AGENCY

[EPA-HQ-OAR-2015-0341; FRL-10012-94-OAR]

Notice of Availability of One Updated Chapter in the Environmental Protection Agency's Air Pollution Control Cost Manual

AGENCY: Environmental Protection Agency (EPA).

ACTION: Notice of availability and public comment period.

SUMMARY: The Environmental Protection Agency (EPA) is providing notice that one chapter of the current EPA Air Pollution Control Cost Manual (Control Cost Manual) has been updated. The EPA is requesting comment on: Chapter 1, Section 5, “Wet Scrubbers for Acid Gas.” This Control Cost Manual chapter covers control measures for sulfur dioxide (SO2) and acid gas emissions.

DATES: Comments must be received on or before November 3, 2020.

ADDRESSES: You may send comments, identified by Docket ID No. EPA-HQ-OAR-2015-0341, by any of the following methods:

• Federal eRulemaking Portal: https://www.regulations.gov (our preferred method). Follow the online instructions for submitting comments.

• Email: a-and-r-Docket@epa.gov. Include the Docket ID No. EPA-HQ-OAR-2015-0341 in the subject line of the message.

• Mail: U.S. Environmental Protection Agency, EPA Docket Center, Air and Radiation Docket, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m. to 4:30 p.m., Monday through Friday (except Federal Holidays).

Instructions: All submissions received must include the Docket ID No. for this document. Comments received may be posted without change to https://www.regulations.gov/, including any personal information provided. For detailed instructions on sending comments and additional information on the rulemaking process, see the “Public Participation” heading of the SUPPLEMENTARY INFORMATION section of this document. Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: Larry Sorrels, Health and Environmental Impacts Division, Office of Air Quality Planning and Standards, Environmental Protection Agency, C439-02, 109 T.W. Alexander Drive, Research Triangle Park, NC 27709; telephone number: (919) 541-5041; fax number: (919) 541-0839; email address: sorrels.larry@epa.gov.

SUPPLEMENTARY INFORMATION: The EPA is requesting comment on the specific Control Cost Manual chapter included in this document.

I. General Information

A. Written Comments

Submit your comments, identified by Docket ID No. EPA-HQ-OAR-2015-0341, at https://www.regulations.gov (our preferred method), or the other methods identified in the ADDRESSES section. Once submitted, comments cannot be edited or removed from the docket. The EPA may publish any comment received to its public docket. Do not submit electronically any information you consider to be Confidential Business Information (CBI) or other information whose disclosure is restricted by statute. Clearly mark the part or all of the information that you claim to be CBI. For CBI information in a disk or CD-ROM that you mail to the EPA docket office, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 Code of Federal Regulation (CFR) part 2. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

The EPA is temporarily suspending its Docket Center and Reading Room for public visitors, with limited exceptions, to reduce the risk of transmitting COVID-19. Our Docket Center staff will continue to provide remote customer service via email, phone, and webform. We encourage the public to submit comments via https://www.regulations.gov/ as there may be a delay in processing mail and faxes. Hand deliveries or couriers will be received by scheduled appointment only. For further information and updates on EPA Docket Center services, please visit us online at https://www.epa.gov/dockets.

The EPA continues to carefully and continuously monitor information from the Centers for Disease Control and Prevention (CDC), local area health departments, and our Federal partners so that we can respond rapidly as conditions change regarding COVID-19.

B. Tips for Preparing Your Comments

When submitting comments, remember to: Identify the notification by docket number and other identifying information (subject heading, Federal Register date and page number).

• Follow directions—The agency may ask you to respond to specific questions or organize comments by referencing a CFR part or section number.

• Explain why you agree or disagree; suggest alternatives and substitute language/data for your requested changes.

• Describe any assumptions and provide any technical information and/or data that you used.

• If you estimate potential costs or burdens, explain how you arrived at your estimate in sufficient detail to allow for it to be reproduced.

• Provide specific examples to illustrate your concerns and suggest alternatives.

• Explain your views as clearly as possible, avoiding the use of profanity or personal threats.

• Make sure to submit your comments by the comment period deadline identified.

II. Information Available for Public Comment

The EPA is requesting comment on one updated chapter of the EPA Air Pollution Control Cost Manual. The Control Cost Manual contains individual chapters on control measures, including data and equations to aid users in estimating capital costs for installation and annual costs for operation and maintenance of these measures. The Control Cost Manual is used by the EPA for estimating the impacts of rulemakings, and serves as a basis for sources to estimate costs of controls that are Best Available Control Technology under the New Source Review Program, and Best Available Retrofit Technology under the Regional Haze Program and for other programs.

The one updated Control Cost Manual chapter is: Chapter 1, Section 5, “Wet Scrubbers for Acid Gas” (to be renamed “Wet and Dry Scrubbers for Acid Gas”). This chapter in the Control Cost Manual will, for the first time, include cost and performance data for dry scrubbers as well as wet scrubbers. This revised Control Cost Manual chapter can be found in the docket for the Control Cost Manual update (Docket ID No. EPA-HQ-OAR-2015-0341). The current Control Cost Manual version (sixth edition) including the current chapter is available at http://epa.gov/ttn/catc/products.html#cccinfo, and last updated in 2003. The Consolidated Appropriations Act of 2014 requested that the EPA begin development of a seventh edition of the Control Cost Manual. The EPA has met with state, local, and tribal officials to discuss plans for the Control Cost Manual update as called for under the Consolidated Appropriations Act of 2014. The EPA has met with other groups as well at their request. The EPA has updated the selective non-catalytic reduction (SNCR) and selective catalytic reduction (SCR) chapters, the first two chapters (Chapter 1, Section 4; Chapter 2, Section 4, respectively) completed for the seventh edition of the Control Cost Manual, and made them available to the public in May 2016 (81 FR 38702, June 14, 2016) and also updated these chapters again in May 2019. In addition, the EPA has updated the Refrigerated Condensers (Chapter 1, Section 3 and Section 3.1) and Incinerators (Chapter 2, Section 3, Section 3.2, now Incinerators/Oxidizers) chapters in November 2017, the Cost Estimation: Concepts and Methodology chapter (Chapter 2, Section 1) as of November 2017, and also the Carbon Adsorbers (Chapter 1, Section 3, Section 3.1) and Flares (Chapter 1, Section 3, Section 3.2) chapters in October 2018.

To help focus review of the Wet Scrubbers for Acid Gas (or Wet and Dry Scrubbers) chapter, we offer the following list of questions that the EPA is particularly interested in addressing in the updated chapter. Commenters are welcome to address any aspects of this chapter. Please provide supporting data for responses to these questions and for other comments on the chapter.

For the Wet and Dry Scrubbers for Acid Gas Chapter

(1) What is a reasonable and up-to-date estimate of equipment life (defined as design or operational life) for wet scrubbers (FGD)? Dry scrubbers? Please provide data, if possible, on accurate estimates of equipment life.

(2) Are the descriptions of wet FGD scrubbers complete, up-to-date, and accurate with regard to control of SO2 and acid gases? Dry scrubbers? Please provide information, if possible, on descriptions of wet and dry scrubbers' control of SO2 and acid gases if you do not believe that the descriptions in the draft chapter are complete, up-to-date, and accurate.

(3) Is the applicability of wet FGD scrubbers to various types of emissions sources complete, up-to-date, and accurate? Dry scrubbers?

(4) Are the cost correlations, factors, and equations for wet FGD scrubbers accurate and up-to-date? For dry scrubbers? If not, how should they be revised? Please provide data, if possible, to address inaccuracies.

(5) Are the estimates of SO2 removal or control efficiency for wet FGD scrubbers accurate and up-to-date? For dry scrubbers? If not, what are more accurate estimates? Please provide data, if possible, to address inaccuracies.

Dated: July 30, 2020.
Erika N. Sasser,
Director, Health and Environmental Impacts Division.

[FR Doc. 2020-17065 Filed 8-4-20; 8:45 am]

BILLING CODE 6560-50-P